NATIONAL CREDIT UNION ADMINISTRATION

Renewal of Agency Information Collection of a Previously Approved Collection; Request for Comments

AGENCY: National Credit Union Administration (NCUA).

ACTION: Notice of submission to the Office of Management and Budget.

SUMMARY: As required by the Paperwork Reduction Act of 1995, The National Credit Union Administration (NCUA) is submitting the following extensions of currently approved collections to the Office of Management and Budget (OMB) for renewal.

DATES: Written comments should be received on or before July 7, 2023 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Mahala Vixamar at (703) 718-1155, emailing PRAComments@ncua.gov, or viewing the entire information collection request at www.reginfo.gov.

SUPPLEMENTARY INFORMATION:

OMB Number: 3133-0033.

Title: Security Program, 12 CFR 748.

Type of Review: Extension of a previously approved collection.

Abstract: In accordance with Title V of the Gramm-Leach-Bliley Act (15 U.S.C. 6801 et seq.), as implemented by 12 CFR part 748, federally insured credit unions (FICU) are required to develop and implement a written security program to safeguard sensitive member information. This information collection requires that such programs be designed to respond to incidents of unauthorized access or use, in order to prevent substantial harm or serious inconvenience to members.

Affected Public: Private Sector: Not-for-profit institutions.

Estimated Total Annual Burden Hours: 240,397.

OMB Number: 3133-0101.

Type of Review: Extension of a previously approved collection.

Title: 12 CFR part 723, Member Business Loans; Commercial Lending.

Abstract: As part of NCUA's Regulatory Modernization Initiative, the NCUA Board amends its member business loan (MBL) rule (part 723) to provide federally insured credit unions with greater flexibility and individual autonomy in safely and soundly providing commercial and business loans to serve their members. The rule modernizes the regulatory requirements that govern credit union commercial lending activities by replacing the current rule's prescriptive requirement and limitations with a broad principles-based regulatory approach.

Affected Public: Private Sector: Not-for-profit institutions.

Estimated Total Annual Burden Hours: 3,656.

OMB Number: 3133-0103.

Type of Review: Extension of a previously approved collection.

Title: Recordkeeping and Disclosure Requirements Associated with Regulations B, E, M, and CC.

Abstract: The third-party disclosure and recordkeeping requirements in this collection are required by statute and regulation. The regulations prescribe certain aspects of the credit application and notification process, making certain disclosures, uniform methods for computing the costs of credit, disclosing credit terms and cost, resolving errors on certain types of credit accounts, and timing requirements and disclosures relating to the availability of deposited funds.

Affected Public: Private Sector: Not-for-profit institutions.

Estimated Total Annual Burden Hours: 3,039,328.

OMB Number: 3133-0152.

Type of Review: Extension of a previously approved collection.

Title: Management Official Interlocks.

Abstract: NCUA requires this information collection to ensure federally insured credit unions comply with NCUA's Management Official Interlocks regulation at 12 CFR part 711, implementing the Depository Institution Management Interlocks Act (“Interlocks Act”) (12 U.S.C. 3201-3208). The Interlocks Act generally prohibits financial institution management officials from serving simultaneously with two unaffiliated depository institutions or their holding companies. For credit unions, the Interlocks Act restricts interlocks between credit unions and other types of financial institutions. 12 U.S.C. 3204(3).

Affected Public: Private Sector: Not-for-profit institutions.

Estimated Total Annual Burden Hours: 6.

OMB Number: 3133-0196.

Type of Review: Extension of a previously approved collection.

Title: Contractor's Diversity Profile.

Abstract: In accordance with section 342 of the Dodd-Frank Act, each new contract award whose dollar value exceeds $100,000 will include a Good Faith Effort (GFE) certification that a contractor ensures the fair inclusion of women and minorities in the workforce of the contractor and, as applicable, subcontractors. As part of this compliance review, selected contractors will be sent a Contractor's Diversity Profile to provide documentation outlined in the GFE certification to NCUA.

Affected Public: Private Sector: Not-for-profit institutions.

Estimated Total Annual Burden Hours: 26.7.

Request for Comments: NCUA published a notice requesting comments on renewal of those information collections under 88 FR 23691 and comments were not received. NCUA requests that comments on this collection to the location listed in the ADDRESSES section. The public is invited to submit comments concerning: (a) whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2023-12117 Filed 6-6-23; 8:45 am]

BILLING CODE 7535-01-P